DEPARTMENT OF HOUSING AND URBAN DEVELOPMENT

[Docket No. FR-5484-N-34]

Notice of Proposed Information Collection: Comment Request; FHA-Insured Mortgage Loan Servicing Involving the Claims and Conveyance Process, Property Inspection/Preservation

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: January 6, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1 (800) 877-8339).

FOR FURTHER INFORMATION CONTACT: Henry S. Czauski, Acting Deputy Administrator, Office of Manufactured Housing, Department of Housing and Urban Development, 451 7th Street SW., Washington, DC 20410, telephone (202) 708-6409 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Dispute Resolution Certification and Federal Manufactured Housing Dispute Resolution Information Form.

OMB Control Number, if applicable: 2502-0562.

Description of the need for the information and proposed use: 42 U.S.C. 5401-5426, amended on December 27, 2009, by the Manufactured Housing Improvement Act of 2000, Public Law 106-569, required HUD to establish a manufactured housing dispute resolution program for states that choose not to operate their own dispute resolution programs. In order for a state to operate its own dispute resolution program, it needs to certify that its program meets the requirements of 42 U.S.C. 5401-5426, and must recertify every three years. For persons to provide the federal manufactured housing dispute resolution program information to resolve the dispute, they need to submit information on the home and parties involved in the dispute.

Agency form numbers, if applicable: OMB 2502-0562.

Estimation of the total numbers of hours needed to prepare the information collection including number of respondents, frequency of response, and hours of response: The number of burden hours is 511. The number of respondents is 228, the number of responses is 228, the frequency of response is on occasion, and the burden hour per response is 1.

Status of the proposed information collection: This is an extension of a currently approved collection.

Authority: The Paperwork Reduction Act of 1995, 44 U.S.C., Chapter 35, as amended.

Dated: October 31, 2011.
Ronald Y. Spraker,
Acting General Deputy Assistant Secretary for Housing.

[FR Doc. 2011-28679 Filed 11-4-11; 8:45 am]

BILLING CODE 4210-67-P